DEPARTMENT OF VETERANS AFFAIRS

[OMB Control No. 2900-0209]

Agency Information Collection Activity: Application for Work-Study Allowance; Student Work-Study Allowance (Advance Payment); Student Work-Study Agreement; and Extended Student Work-Study Agreement

AGENCY: Veterans Benefits Administration, Department of Veterans Affairs.

ACTION: Notice.

SUMMARY: Department of Veterans Affairs (VA), is announcing an opportunity for public comment on the proposed collection of certain information by the agency. Under the Paperwork Reduction Act (PRA) of 1995, Federal agencies are required to publish notice in the Federal Register concerning each proposed collection of information, including each proposed revision of a currently approved collection, and allow 60 days for public comment in response to the notice.

DATES: Written comments and recommendations on the proposed collection of information should be received on or before January 19, 2021.

ADDRESSES: Submit written comments on the collection of information through Federal Docket Management System (FDMS) at www.Regulations.gov or to Nancy J. Kessinger, Veterans Benefits Administration (20M33), Department of Veterans Affairs, 810 Vermont Avenue NW, Washington, DC 20420 or email to nancy.kessinger@va.gov. Please refer to “OMB Control No. 2900-0209” in any correspondence. During the comment period, comments may be viewed online through FDMS.

FOR FURTHER INFORMATION CONTACT: Danny S. Green at (202) 421-1354.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VAS's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Authority: Section 3485 of title 38, United States Code; Section 21.4145 of title 38, Code of Federal Regulations.

Title: Application for Work-Study Allowance, Student Work-Study Agreement (Advance Pay), Extended Work-Study Agreement, Student Work-Study Agreement.

OMB Control Number: 2900-0209.

Type of Review: Revision of a currently approved collection.

Abstract: VA uses the information collected to determine the individual's eligibility for the work-study allowance, the number of hours the individual will work, the amount payable, whether the individual desires an advance payment, and whether the individual wants to extend the work-study contract.

Affected Public: Individuals and households.

Estimated Annual Burden: 16,031 hours.

Estimated Average Burden per Respondent: 20 minutes.

Frequency of Response: Once Annually.

Estimated Number of Respondents: 89,817.

By direction of the Secretary.
Danny S. Green,
VA PRA Clearance Officer, Office of Quality, Performance and Risk, Department of Veterans Affairs.

[FR Doc. 2020-25607 Filed 11-19-20; 8:45 am]

BILLING CODE 8320-01-P